FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding dates shown below:

License Number: 692F.

Name: A.R. Savage & Son, Inc. and Its Division Transoceanic Freighting Services.

Address: 1803 Eastport Drive, Tampa, FL 33605.

Date Revoked: May 4, 2001.

Reason: Failed to maintain a valid bond.

License Number: 4088F.

Name: Able Freight Services, Inc.

Address: 801 W. Hyde Park Blvd., Inglewood, CA 90302.

Date Revoked: May 10, 2001.

Reason: Failed to maintain a valid bond.

License Number: 1980F.

Name: Almar International Forwarders, Inc.

Address: 10400 NW 21st Street, Miami, FL 33172.

Date Revoked: April 25, 2001.

Reason: Surrendered license voluntarily.

License Number: 14738N.

Name: Atlas Container, Inc.

Address: 8915 S. La Cienega Blvd., Unit E, Inglewood, CA 90301.

Date Revoked: April 29, 2001.

Reason: Failed to maintain a valid bond.

License Number: 10520N.

Name: British Motors of California d/b/a A.F.L. International.

Address: 6950 Camino Maquiladora, Suite D, San Diego, CA 91254.

Date Revoked: April 15, 2001.

Reason: Failed to maintain a valid bond.

License Number: 65F.

Name: Chase, Leavitt (Customhouse Brokers), Inc.

Address: 10 Dana Street, Portland, ME 04112.

Date Revoked: March 23, 2001.

Reason: Failed to maintain a valid bond.

License Number: 1732F.

Name: Don Hancock Co., Inc.

Address: 2423 Greens Road, Suite 2-B, Houston, TX 77032.

Date Revoked: April 27, 2001.

Reason: Failed to maintain a valid bond.

License Number: 2878F.

Name: Hiroyuki Wada d/b/a Amex Transworld Company.

Address: 8622 Bellanca #K, Los Angeles, CA 90045.

Date Revoked: May 10, 2001.

Reason: Failed to maintain a valid bond.

License Number: 4390F.

Name: International Financial Resources, Inc.

Address: 510 Plaza Drive, Suite 2280, Atlanta, GA 30349.

Date Revoked: May 4, 2001.

Reason: Failed to maintain a valid bond.

License Number: 3790F.

Name: Jorge H. Vasquez d/b/a Pacific King.

Address: 22600 South Bonita Street, Carson, CA 90745.

Date Revoked: April 25, 2001.

Reason: Failed to maintain a valid bond.

License Number: 4204F.

Name: Kota Shipping Corp.

Address: 4995 N.W. 72nd Avenue, Suite 408, Miami, FL 33166.

Date Revoked: April 5, 2001.

Reason: Failed to maintain a valid bond.

License Number: 3964N.

Name: Logistic Excel Corporation.

Address: 1521 West Magnolia, Suite B, Burbank, CA 91506.

Date Revoked: April 27, 2001.

Reason: Failed to maintain a valid bond.

License Number: 4329F.

Name: Ronny Gene Mollard d/b/a GFAST.

Address: 5619 Hazen Street, Houston, TX 77081.

Date Revoked: May 3, 2001.

Reason: Failed to maintain a valid bond.

License Number: 10853N.

Name: Senko Logistics Company, Inc. d/b/a Senko Container Line d/b/a Senko Logistics (USA), Inc.

Address: 19550 Pacific Hgwy, Suite 107, Seattle, WA 98188.

Date Revoked: April 30, 2001.

Reason: Failed to maintain a valid bond.

License Number: 3896N.

Name: Sino Am Cargo, Inc.

Address: 1335 Evans Avenue, San Francisco, CA 94124.

Date Revoked: April 4, 2001.

Reason: Failed to maintain a valid bond.

License Number: 972F.

Name: Stone & Downer Company.

Address: 140 Eastern Avenue, Chelsea, MA 02150.

Date Revoked: May 22, 2001.

Reason: Failed to maintain a valid bond.

License Number: 16345N.

Name: Twin Modal, Inc.

Address: 2621 Fairview Avenue, N. Roseville, MN 55113-2616.

Date Revoked: March 29, 2001.

Reason: Surrendered license voluntarily.

License Number: 13930NF.

Name: Victoria Line, Inc.

Address: 10400 N.W. 21st Street, Miami, FL 33172.

Date Revoked: April 25, 2001.

Reason: Surrendered license voluntarily.

Sandra L. Kusumoto,
Director, Bureau of Consumer Complaints and Licensing.

[FR Doc. 01-14918 Filed 6-12-01; 8:45 am]

BILLING CODE 6730-01-P